DEPARTMENT OF JUSTICE

Notice of Lodging of Consent Decree Under the Clean Air Act Between the United States, the State of North Dakota, Minnkota Power Cooperative, Inc., and Square Butte Electric Cooperative

In accordance with 28 CFR 50.7, notice is hereby given that on April 25, 2006, a proposed consent decree (“Consent Decree”) between the United States, the State of North Dakota, Minnkota Power Cooperative, Inc., (“Minnkota”) and Square Butte Electric Cooperative (“Square Butte”) was lodged with the United States District Court for the District of North Dakota in Civil Action No. 1:06-CV-034.

The Consent Decree would resolve the civil claims asserted by the United States against Minnkota and Square Butte pursuant to sections 113(b) and 167 of the Clean Air Act, 42 U.S.C. 7413(b) and 7477, for injunctive relief and the assessment of civil penalties for violations of the Prevention of Significant Deterioration provisions of the Act, 42 U.S.C. 7470-92, Title V of the Act, 42 U.S.C. 7661 et seq., and the federally approved and enforceable North Dakota State Implementation Plan (the “SIP”).

The United States and the State of North Dakota also filed with the Consent Decree a complaint which alleges, among other things, that Minnkota and Square Butte modified and thereafter operated two coal-fired electricity generating units at the Milton R. Young electricity generating station in Center, North Dakota, without first obtaining a PSD permit authorizing the construction and without installing the best available technology to control emissions of sulfur dioxide (SO2), nitrogen oxides (NOX), and particulate matter (PM), as required by the Act, applicable federal regulations, and the SIP.

Under the terms of the proposed Consent Decree, Minnkota and Square Butte will install or upgrade pollution controls for SO2 NOX, and PM for the two electricity generating units at the Milton R. Young facility, at an estimated cost of over $100 million. Minnkota and Square Butte will also pay $850,000 in civil penalties and undertake $5 million in additional injunctive relief.

The Department of Justice will receive for a period of thirty (30) days from the date of this publication comments relating to the Consent Decree. Comments should be addressed to the Deputy Assistant Attorney General, Environment and Natural Resources Division, P.O. Box 7611, U.S. Department of Justice, Washington, DC 20044-7611, and should refer to United Sates v. Minnkota Power Cooperative, Inc., DOJ Case Number 90-5-2-1-07717.

The proposed Consent Decree may be examined at the office of the United States Attorney for the District of North Dakota, 220 East Rosser Avenue, Suite 372, Bismark, ND 58501, and at U.S. EPA Region VIII, 999 18th Street, Denver, CO 80202. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514- 1547. In requesting a copy of the Consent Decree, please reference United States v. Minnkota Power Cooperative, Inc., DOJ Case Number 90-5-2-1-07717, and enclose a check in the amount of $17.50 (25 cents per page reproduction cost) payable to the U.S. Treasury.

Thomas Mariani,
Assistant Chief, Environmental Enforcement Section, Environmental and Natural Resources Division.

[FR Doc. 06-4374 Filed 5-10-05; 8:45am]

BILLING CODE 4410-15-M